DEPARTMENT OF ENERGY

Federal Energy Regulatory Commission

[Docket No. RP04-1-000]

Garden Banks Gas Pipeline, LLC; Notice of Proposed Changes in FERC Gas Tariff

October 8, 2003.

Take notice that on October 1, 2003, Garden Banks Gas Pipeline, LLC (GBGP) tendered for filing as part of its FERC Gas Tariff, Original Volume No. 1, the following revised tariff sheets to be effective November 1, 2003:

Third Revised Sheet No. 14

Third Revised Sheet No. 24

Second Revised Sheet No. 33

Fifth Revised Sheet No. 100

Third Revised Sheet No. 101

Second Revised Sheet No. 121C

Second Revised Sheet No. 216

First Revised Sheet No. 219

First Revised Sheet No. 220

Second Revised Sheet No. 227

First Revised Sheet No. 230

Second Revised Sheet No. 238

First Revised Sheet No. 241

First Revised Sheet No. 242

Second Revised Sheet No. 278

First Revised Sheet No. 281

Second Revised Sheet No. 288

First Revised Sheet No. 289

First Revised Sheet No. 295A

First Revised Sheet No. 296A

Second Revised Sheet No. 297

Third Revised Sheet No. 302

GBGP states that the purpose of this filing is to update its tariff to: (1) Remove remnants of Order No. 637 policies that no longer apply (eliminating capacity releases at rates above max tariff rate and five-year term limit for determining best bid); (2) update the legal name of its member company that handles certain administrative functions; (3) add two informational items to its Request for Service Form—the shipper's Federal Tax ID number and DUNS number—which are required for GBGP to conduct business; and, (4) correct format and typographical errors contained on several pages.

GBGP states that copies of the filing are being mailed to each of GBGP's customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Intervention and Protest Date: October 14, 2003.

Magalie R. Salas,
Secretary.

[FR Doc. E3-00057 Filed 10-15-03; 8:45 am]

BILLING CODE 6717-01-P